DEPARTMENT OF HEALTH AND HUMAN SERVICES

National Institutes of Health

National Institute on Alcohol Abuse and Alcoholism; Amended Notice of Meeting

Notice is hereby given of a meeting of the National Advisory Council on Alcohol Abuse and Alcoholism, September 12, 2011, 3:30 p.m. to 5:30 p.m., September 13, 2011, 9 a.m. to 1 p.m., National Institutes of Health, Building 1, 1 Center Drive, Wilson Hall, Bethesda, MD 20892 which was published in the Federal Register on June 29, 2011, 76FRN2011-16858.

The meeting time has changed on September 12, 2011 from 2:45 p.m. to 5:30 p.m. The location of the meeting will remain the same.

Dated: August 11, 2011.
Anna P. Snouffer,
Deputy Director, Office of Federal Advisory Committee Policy.

[FR Doc. 2011-21126 Filed 8-17-11; 8:45 am]

BILLING CODE 4140-01-P